DEPARTMENT OF TRANSPORTATION

Federal Transit Administration

Limitation on Claims Against Proposed Public Transportation Project—East-West Bus Rapid Transit (BRT) Project

AGENCY: Federal Transit Administration (FTA), Department of Transportation (DOT).

ACTION: Notice.

SUMMARY: This notice announces final environmental actions taken by the Federal Transit Administration (FTA) regarding the East-West Bus Rapid Transit (BRT) Project in Madison, Wisconsin. The purpose of this notice is to announce publicly the environmental decisions by FTA on the subject project and to activate the limitation on any claims that may challenge these final environmental actions.

DATES: A claim seeking judicial review of FTA actions announced herein for the listed public transportation project will be barred unless the claim is filed on or before November 18, 2022.

FOR FURTHER INFORMATION CONTACT: Kathryn Loster, Assistant Chief Counsel, Office of Chief Counsel, (312) 353-3869, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov.

This notice applies to all FTA decisions on the listed project as of the issuance date of this notice and all laws under which such actions were taken, including, but not limited to, NEPA (42 U.S.C. 4321-4375), Section 4(f) requirements (23 U.S.C. 138, 49 U.S.C. 303), Section 106 of the National Historic Preservation Act (54 U.S.C. 306108), Endangered Species Act (16 U.S.C. 1531), Clean Water Act (33 U.S.C. 1251), and the Clean Air Act (42 U.S.C. 7401-7671q). This notice does not, however, alter or extend the limitation period for challenges of project decisions subject to previous notices published in the Federal Register. The project and actions that are the subject of this notice follow:

Project name and location: East-West Bus Rapid Transit (BRT) Project, Madison, Wisconsin. Project Sponsor: City of Madison, Madison, Wisconsin. Project description: The East-West Bus Rapid Transit (BRT) Project is a 15-mile route that will connect the east and west sides of Madison, running through the isthmus, downtown, and the University of Wisconsin (UW) campus. The Project route will operate in a combination of exclusive, semi-exclusive, and mixed traffic lanes within the existing transportation right-of-way. The Project involves construction of 32 BRT stations and a park-and-ride facility at Junction Road, purchase of diesel and electric buses, implementation of traffic signal priority, purchase and installation of electric bus charging stations and other associated roadway and infrastructure improvements.

Final agency actions: Section 4(f) de minimis impact determination, dated May 16, 2022; Section 106 No Adverse Effect determination, dated March 3, 2022; and Determination of the applicability of a categorical exclusion pursuant to 23 CFR 771.118(c)(9), dated May 16, 2022. Supporting documentation: Categorical Exclusion (CE) determination and supporting materials, dated May 16, 2022. The CE determination and associated documents can be viewed and downloaded from: https://www.cityofmadison.com/metro/routes-schedules/bus-rapid-transit/environmental-review.

(Authority: 23 U.S.C. 139(l)(1))

Mark A. Ferroni,
Deputy Associate Administrator for Planning and Environment.

[FR Doc. 2022-13199 Filed 6-17-22; 8:45 am]

BILLING CODE P